NATIONAL ARCHIVES AND RECORDS ADMINISTRATION

36 CFR Part 1280

[FDMS No. NARA-13-0001]; Agency No. NARA-2013-033

RIN 3095-AB77

Use of Meeting Rooms and Public Spaces

AGENCY: National Archives and Records Administration (NARA).

ACTION: Final rule.

SUMMARY: NARA has amended its regulations on the public use of NARA facilities in the Washington, DC, area. The regulations have been revised to clarify instances where fees may be charged for services related to building use. It also updates contact information for requesting use of NARA public areas in the Washington, DC, National Archives Building and the National Archives at College Park.

DATES: This rule is effective August 9, 2013.

FOR FURTHER INFORMATION CONTACT: Kimberly Keravuori at 301-837-3151.

SUPPLEMENTARY INFORMATION: On April 5, 2013, NARA published a proposed rule in the Federal Register (78 FR 20563) for a 60-day comment period. This proposed rule clarified instances where fees may be charged for services related to building use. It also updated contact information for requesting use of NARA public areas in the Washington, DC National Archives Building and the National Archives at College Park. The public comment period closed on June 4, 2013. In response, NARA received no comments and is now issuing the changes in final form.

This rule is not a significant rule for the purposes of Executive Order 12866 and has not been reviewed by the Office of Management and Budget. As required by the Regulatory Flexibility Act, it is hereby certified that this proposed rule will not have a significant impact on small entities.

List of Subjects in 36 CFR Part 1280

Archives and records.

For the reasons set forth in the preamble, NARA amends part 1280 of title 36, Code of Federal Regulations, as follows:

PART 1280—USE OF NARA FACILITIES

1. The authority citation for part 1280 continues to read as follows:

Authority: 44 U.S.C. 2102 notes, 2104(a), 2112, 2903.

2. Amend § 1280.78 by revising paragraph (c) to read as follows:

§ 1280.78 Does NARA charge fees for the use of public areas in the National Archives Building?

* * * * *

(c) Federal and quasi-Federal agencies, State, local, and tribal governmental institutions using public space for official government functions pay fees to the National Archives Trust Fund only for the costs for room rental, administrative fees, additional cleaning, security, and other staff services NARA provides.

3. Amend § 1280.80 by revising paragraph (a) to read as follows:

§ 1280.80 How do I request to use NARA public areas in the National Archives Building?

(a) Direct your request to use space to Special Events (Partnerships Division), National Archives and Records Administration, 700 Pennsylvania Avenue NW., Washington, DC 20408; or request by email to specialevents@nara.gov.

* * * * *

4. Revise § 1280.87 to read as follows:

§ 1280.87 Does NARA charge fees for the use of public areas in the National Archives at College Park?

NARA may charge a fee under 44 U.S.C. 2903(b) for the use of public areas in the National Archives at College Park. We inform organizations in advance and in writing of the total estimated cost of using the public areas. Federal and quasi-Federal agencies, State, local, and tribal governmental institutions using public space for official government functions pay fees to the National Archives Trust Fund only for the costs for room rental, administrative fees, additional cleaning, security, and other staff services NARA provides.

5. Amend § 1280.88 by revising paragraph (a) as follows:

§ 1280.88 How do I request to use NARA public areas in the National Archives at College Park?

(a) Direct your request to use space to Special Events (Partnerships Division), National Archives and Records Administration, 700 Pennsylvania Avenue NW., Washington, DC 20408; or request by email to specialevents@nara.gov.

* * * * *

Dated: June 28, 2013.
David S. Ferriero,
Archivist of the United States.

[FR Doc. 2013-16581 Filed 7-9-13; 8:45 am]

BILLING CODE 7515-01-P